DEPARTMENT OF LABOR

Employment and Training Administration

[TA-W-71,501M]

Sony Electronics, Inc., Including On-Site Leased Workers From Selectremedy Park Ridge, NJ; Amended Certification Regarding Eligibility To Apply for Worker Adjustment Assistance

In accordance with Section 223 of the Trade Act of 1974, as amended (“Act”), 19 U.S.C. 2273, the Department of Labor issued a Certification of Eligibility To Apply for Worker Adjustment Assistance on April 27, 2010, applicable to workers of Sony Electronics, Inc., SEL Headquarters, including on-site leased workers of SelectRemedy, StaffMark, and Payrolling.com, San Diego, California (TA-W-71,501); Sony Electronics, Inc., including on-site leased workers of SelectRemedy, StaffMark, and PayRolling.com, San Jose, California (TA-W-71,501A); Sony Electronics, Inc., including on-site leased workers of WillStaff, Danco Industrial Contractors, Advantage, Cyclone Automation, and Rjesus Fabrication, Dothan, Alabama (TA-W-71,501B); and Sony Electronics, Inc., including on-site leased workers of SelectRemedy, Itasca, Illinois (TA-W-71,501C).

The workers are engaged in activities related to production of electronics and various support operations, including marketing, professional, corporate and customer support, import/export compliance, procurement, and warranty services.

The notice was published in the Federal Register on July 1, 2010 (75 FR 38143-38144). The notice as amended on August 13, 2011 to include other locations. The amended notice was published in the Federal Register on November 12, 2010 (75 FR 69471-69472)

At the request of the State Agency, the Department reviewed the certification for workers of the subject firm. The company reports that workers leased from SelectRemedy were employed on-site at the Park Ridge, New Jersey location of Sony Electronics, Inc. The Department has determined that these workers were sufficiently under the control of Sony Electronics, Inc. to be considered leased workers.

Based on these findings, the Department is amending this certification to include workers leased from SelectRemedy working on-site at the Park Ridge, New Jersey location of Sony Electronics.

The intent of the Department's certification is to include all workers of the subject firm who were adversely affected by a shift in production of electronics and various support operations, including marketing, professional, corporate and customer support, import/export compliance, procurement, and warranty services, to Mexico, China, India, and Japan.

The amended notice applicable to TA-W-71,501 is hereby issued as follows:

All workers of Sony Electronics, Inc., SEL Headquarters, including on-site leased workers of SelectRemedy, StaffMark, and Payrolling.com, San Diego, California (TA-W-71,501); Sony Electronics, Inc., including on-site leased workers of SelectRemedy, StaffMark, and Payrolling.com, San Jose, California (TA-W-71,501A); Sony Electronics, Inc., including on-site leased workers of WillStaff, Danco Industrial Contractors, Advantage, Cyclone Automation, and RJESUS Fabrication, Dothan, Alabama (TA-W-71,501B); and Sony Electronics, Inc., including on-site leased workers of SelectRemedy, Itasca, Illinois (TA-W-71,501C), Carson, California, including on-site leased workers of Select Staffing (TA-W-71,501D); Culver City, California (TA-W-71,501E); Lake Forest, California (TA-W-71,501F); Los Angeles, California (TA-W-71,501G); Ft. Myers, Florida (TA-W-71,501H); Miami, Florida (TA-W-71,501I); Honolulu, Hawaii (TA-W-71,501J); Novi, Michigan (TA-W-71,501K); Kansas City, Missouri, including on-site leased workers of Kelly Services (TA-W-71,501L); including on-site leased workers of SelectRemedy, Park Ridge, New Jersey (TA-W-71,501M); Teaneck, New Jersey, including on-site leased workers of Select Staffing (TA-W-71,501N); Irving, Texas (TA-W-71,501O); and Richmond, Virginia (TA-W-71,501P) ho became totally or partially separated from employment on or after June 22, 2008, through April 27 2012, and all workers in the group threatened with total or partial separation from employment on date of certification through two years from the date of certification, are eligible to apply for adjustment assistance under Chapter 2 of Title II of the Trade Act of 1974, as amended.

Signed in Washington, DC, this 9th day of January 2012.
Michael W. Jaffe,
Certifying Officer, Division of Trade Adjustment Assistance.

[FR Doc. 2012-1330 Filed 1-23-12; 8:45 am]

BILLING CODE 4510-FN-P